ENVIRONMENTAL PROTECTION AGENCY

[EPA-HQ-SFUND-2005-0013; FRL-8015-4]

Notice of Availability of a Petition for Exemption From EPCRA and CERCLA Reporting Requirements for Ammonia From Poultry Operations

AGENCY: Environmental Protection Agency (EPA).

ACTION: Notice of data availability.

SUMMARY: This notice announces the availability of a Petition for Exemption from EPCRA and CERCLA Reporting Requirements for Ammonia from Poultry Operations that was submitted to the Environmental Protection Agency on August 5, 2005 by the National Chicken Council, National Turkey Federation, and U.S. Poultry and Egg Association as nonprofit member organizations that represent the majority of broiler and turkey producers across the country. This document is being made available so that the public will have the opportunity to provide relevant data regarding this petition. EPA, in accordance with its mission to protect human health and the environment, will consider the impacts of human health and the environment in its decision whether to grant or deny this petition.

DATES: Comments must be received on or before March 27, 2006.

ADDRESSES: Submit your comments, identified by Docket ID No. EPA-HQ-SFUND-2005-0013, by one of the following methods:

• http://www.regulations.gov: Follow the on-line instructions for submitting comments.

• E-mail: superfund.docket@epa.gov.

• Fax: 202-566-0224.

• Mail: Superfund Docket, Environmental Protection Agency, Mailcode: 5202T, 1200 Pennsylvania Ave., NW., Washington, DC 20460.

• Hand Delivery: Public Reading Room, Room B102, EPA West Building, 1301 Constitution Avenue, NW., Washington, DC. Such deliveries are only accepted during the Docket's normal hours of operation, and special arrangements should be made for deliveries of boxed information.

Instructions: Direct your comments to Docket ID No. EPA-HQ-SFUND-2005-0013. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov. The http://www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm. “For additional instructions on submitting comments, go to Unit III.A of the SUPPLEMENTARY INFORMATION section of this document.

Docket: All documents in the docket are listed in the http://www.regulations.gov index. Although listed in the index, some information is not publicly available, e.g., CBI or other information whose disclosure is restricted by statute. Certain other material, such as copyrighted material, will be publicly available only in hard copy. Publicly available docket materials are available either electronically in www.regulations.gov or in hard copy at the Superfund Docket, EPA/DC, EPA West, Room B102, 1301 Constitution Ave., NW., Washington, DC. The Public Reading Room is open from 8:30 a.m. to 4:30 p.m., Monday through Friday, excluding legal holidays. The telephone number for the Public Reading Room is (202) 566-1744, and the telephone number for the Superfund Docket is (202) 566-0276).

SUPPLEMENTARY INFORMATION:

I. General Information

A. Interested Entities

Type of entity | Examples of interested entities
Industry | Poultry Industry, Owners/Operators of animal production operations.
Environmental and Citizen Groups | Sierra Club, Environmental Integrity Project, Local Citizen Groups.
State/Local/Tribal Government | State and Tribal Emergency Response Commissions, and Local Emergency Planning Committees.
Federal | National Response Center, Regional Environmental Protection Agency Offices.

This table is not intended to be exhaustive, but rather provides a guide for readers regarding entities likely to be interested in this petition. This table lists the types of entities that EPA is now aware could potentially be interested in this petition. Other types of entities not listed in the table may also be interested.

B. What Should I Consider as I Prepare My Comments for EPA?

You may find the following suggestions helpful for preparing your comments:

1. Explain your views as clearly as possible.

2. Describe any assumptions that you used.

3. Provide any technical information and/or data you used that support your views.

4. If you estimate potential burden or costs, explain how you arrived at your estimate.

5. Provide specific examples to illustrate your concerns.

6. Offer alternatives.

7. Make sure to submit your comments by the comment period deadline identified.

8. To ensure proper receipt by EPA, identify the appropriate docket identification number in the subject line on the first page of your response. It would also be helpful if you provided the name, date, and Federal Register citation related to your comments.

II. Background

The Comprehensive Environmental Response, Compensation and Liability Act (CERCLA) section 103(a) requires that any person in charge of a facility notify the National Response Center (NRC), as soon as he has knowledge, of the release of a hazardous substance from that facility in quantities equal to or greater than those determined under section 102(b) of CERCLA. Those quantities are called the Reportable Quantities or RQs. Similarly, EPCRA section 304(a) requires that the local emergency planning committee (LEPC) for any area likely to be affected, and the State emergency response commission (SERC) of any State likely to be affected by the release of an extremely hazardous substance listed under EPCRA Section 302 also be notified. Neither CERCLA nor EPCRA limit the industry or commercial sectors that need to report; therefore any facility releasing more than an RQ must report. With respect to poultry operations, the CERCLA hazardous and EPCRA extremely hazardous substance most likely to trigger an RQ is ammonia at 100 pounds per 24 hours. Ammonia may be used at a farm as fertilizer and thus, is stored in tanks and can be released. However, at poultry operations, another likely release source of ammonia is from the barns that contain poultry litter (bedding material that is combined with deposited manure).

Hydrogen sulfide is also a CERCLA hazardous and EPCRA extremely hazardous substance, with an RQ at 100 pounds per 24 hours, which may be emitted from animal agricultural operations. However, the petition is silent on hydrogen sulfide.

On August 5, 2005, the Agency received the subject petition titled, “Petition for Exemption from EPCRA and CERCLA Reporting Requirements for Ammonia from Poultry Operations.”

III. Summary of Today's Action

A. What Is the Agency Asking From the Public?

The Agency believes the petition raises important issues that require a scientifically-sound basis in order to make a reasoned decision. The Agency's Office of Science Policy includes on its Web site, http://www.epa.gov/osp/science.htm, a statement that, “[s]cience provides the foundation for credible decision-making. Only through adequate knowledge about the risks to human health and ecosystems, and innovative solutions to prevent pollution and reduce risk, can we continue to enjoy a high quality life. With a better understanding of environmental risks to people and ecosystems, EPA can target the hazards that pose the greatest risks and anticipate environmental problems before they reach a critical level.” It is appropriate, based on this policy, that the Agency seeks relevant data so that it can make a science-based decision regarding this petition.

As a result the Agency is requesting the public to submit any relevant data on the impact of ammonia emissions on public health and the environment from poultry operations. The Agency is also interested in hearing from State Emergency Planning Commissions (SERC) and Local Emergency Planning Committees (LEPCs) about the usefulness of release reports that are required under EPCRA and its implementing regulations (40 CFR 355—Emergency Planning and Notification).

B. What Efforts Are the Agency Currently Pursuing To Evaluate Emissions From Poultry Operations?

Currently, the Agency does not have any reliable data regarding emissions from the poultry operations industry that it could use to properly evaluate this petition; however, the Agency is currently evaluating applications from the animal agricultural industry for participation in the Agency's Animal Feeding Operations (AFO)/Consent Agreement and Final Order (CAFO) that will enable the Agency to collect emissions data from the industry.

On January 31, 2005, EPA published a notice in the Federal Register (70 FR 4958) offering animal agricultural operations an opportunity to sign the voluntary Consent Agreement, which among other things establishes a monitoring study for emissions at such operations. The need for the monitoring study was based on a National Academy of Sciences (NAS) review and evaluation of EPA and the U.S. Department of Agriculture's scientific basis for estimating emissions of various air pollutants from AFOs. The NAS issued a final report in February, 2003 concluding that scientifically sound and practical protocols for measuring air emissions from AFOs needed to be developed. The NAS also found that existing methodologies for estimating air emissions from AFOs are generally inadequate because of the limited data and site specific factors on which they are based. In response to the 2003 NAS report, EPA began revising the conceptual enforcement agreement to specifically address the data and emission-estimating methodology needs, thus beginning to address the needs cited by the NAS, and determining AFO regulatory responsibility under the CAA, CERCLA, and EPCRA. This resulting monitoring study will lead to the development of methodologies for estimating emissions from AFOs and will allow Respondents to determine and comply with their regulatory responsibilities under the CAA, CERCLA, and EPCRA.

Once applicable emission-estimating methodologies have been published by EPA, the liability release in the proposed Agreement is contingent on the Respondent certifying that it is in compliance with all relevant requirements of the CAA, CERCLA, and EPCRA. In return, Respondents receive a release and covenant not to sue for the specific violations identified by applying the relevant emissions-estimating methodologies as long as the participating animal agricultural operations comply with all of their obligations under the Agreement.

The AFO Air Compliance Agreement is an important part of EPA's strategy to address air emissions from AFOs. In addition to resolving the compliance status of AFOs under the relevant statutes, it will provide critical data that will allow EPA to quantify emissions coming from AFOs (including poultry operations) and, if necessary, to identify appropriate regulatory and nonregulatory responses for controlling those emissions.

C. What Is the Agency Intending To Do With the Scientific Data Received From the Public?

The Agency intends to consider the scientific data that it receives from the public in its evaluation of this petition. Once the Agency has made its decision it will issue a notice that provides its rationale to either grant or deny the petition.

Dated: December 20, 2005.
Thomas P. Dunne,
Acting Assistant Administrator, Office of Solid Waste and Emergency Response.

[FR Doc. E5-7869 Filed 12-23-05; 8:45 am]

BILLING CODE 6560-50-P